DEPARTMENT OF HOMELAND SECURITY

Coast Guard

[Docket No. USCG-2021-0734]

Policy Letter: Change 1 to CG-MMC Policy Letter 02-18, Guidelines for Qualifications of Personnel for Issuing STCW Endorsements for Basic and Advanced Polar Code Operations

AGENCY: Coast Guard, Homeland Security (DHS).

ACTION: Notice of availability.

SUMMARY: The Coast Guard announces the availability of Change 1 to CG-MMC Policy Letter 02-18, Guidelines for Qualifications of Personnel for Issuing STCW Endorsements for Basic and Advanced Polar Code Operations. The Coast Guard will use applicable regulations and this policy to evaluate whether mariners may be issued endorsements for Basic and Advanced Polar Code Operations.

DATES: The policies announced in Change 1 to CG-MMC Policy Letter 02-18 are effective as of September 20, 2021.

ADDRESSES: To view the policy letter mentioned in this notice, search the docket number USCG-2021-0734 using the Federal eRulemaking Portal at https://www.regulations.gov.

FOR FURTHER INFORMATION CONTACT: For information about this document, contact James Cavo, Mariner Credentialing Program Policy Division (CG-MMC-2), Coast Guard; telephone 202-372-1205; email MMCPolicy@uscg.mil.

SUPPLEMENTARY INFORMATION: This change revises CG-Policy Letter 02-18 to include the requirements for renewal of Basic and Advanced Polar Code Operations endorsements. Renewal requirements for these endorsements were not included in the original policy letter. Methods to qualify for renewal of an STCW endorsement in Polar Code Operations will include completion of refresher training, evidence of being a qualified instructor of a Basic or Advanced Polar Code Operations course at least twice within the past five years, or sea service.

The professional requirements to renew a merchant mariner credential (MMC) in 46 CFR 10.227 include the option to present evidence of at least 1 year of sea service during the past 5 years. However, Section A-I/11 paragraph 4.1 of the STCW Code only requires 2 months of seagoing service within the previous 5 years for renewal of Basic and Advanced Polar Code endorsements. To align with the STCW requirements and to ensure the seagoing service requirement for the renewal of a Polar Code Operations endorsement does not exceed the seagoing service requirement to initially qualify for Polar Code Operations endorsement, the seagoing service requirement for renewal of Polar Code Operations endorsements will be 2 months of seagoing service in the previous 5 years. Mariners will also need to meet the applicable requirements in 46 CFR 10.227 for the renewal of their MMC.

This change also removes transitional provisions that expired on July 1, 2020.

This notice is issued under authority of 5 U.S.C. 552(a).

Dated: September 20, 2021.
J.G. Lantz,
U.S. Coast Guard, Director of Commercial Regulations and Standards.

[FR Doc. 2021-21633 Filed 10-4-21; 8:45 am]

BILLING CODE 9110-04-P